DEPARTMENT OF ENERGY

Federal Energy Regulatory Commission

[Docket No. RP96-320-029]

Koch Gateway Pipeline Company; Notice of Negotiated Rate Filing

February 8, 2000.

Take notice that on January 31, 2000, Koch Gateway Pipeline Company (Koch) tendered for filing contracts for disclosure of recently negotiated rate transactions. As shown on the contracts, Koch requests an effective date of February 1, 2000.

Special Negotiated Rate Between Koch and Koch Energy Trading

Koch states that it has served copies of this filing upon all parties on the official service list created by the Secretary in this proceeding.

Any person desiring to protest said filing should file a protest with the Federal Energy Regulatory Commission, 888 First Street, N.W., Washington, D.C. 20426, in accordance with Section 385.211 of the Commission's Rules and Regulations. All such protests must be filed on or before February 15, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-3313 Filed 2-11-00; 8:45 am]

BILLING CODE 6717-01-M